ENVIRONMENTAL PROTECTION AGENCY

40 CFR Part 180

[EPA-HQ-OPP-2007-0445; FRL-8348-8]

Acephate, Fenbutatin-Oxide (Hexakis), MCPA, Pyrethrins, and Triallate; Tolerance Actions

AGENCY: Environmental Protection Agency (EPA).

ACTION: Final rule.

SUMMARY: EPA is revoking certain tolerances for the insecticides acephate and pyrethrins. Also, EPA is modifying certain tolerances for the insecticides acephate and pyrethrins. In addition, EPA is establishing new tolerances for the herbicides MCPA and triallate, and the insecticides fenbutatin-oxide (hexakis) and pyrethrins. The regulatory actions finalized in this document are in follow-up to the Agency's reregistration program under the Federal Insecticide, Fungicide, and Rodenticide Act (FIFRA), and tolerance reassessment program under the Federal Food, Drug, and Cosmetic Act (FFDCA) section 408(q).

DATES: This regulation is effective January 29, 2008. Objections and requests for hearings must be received on or before March 31, 2008, and must be filed in accordance with the instructions provided in 40 CFR part 178 (see also Unit I.C. of the SUPPLEMENTARY INFORMATION).

ADDRESSES: EPA has established a docket for this action under docket identification (ID) number EPA-HQ-OPP-2007-0445. To access the electronic docket, go to http://www.regulations.gov, select “Advanced Search,” then “Docket Search.” Insert the docket ID number where indicated and select the “Submit” button. Follow the instructions on the regulations.gov website to view the docket index or access available documents. All documents in the docket are listed in the docket index available in regulations.gov. Although listed in the index, some information is not publicly available, e.g., Confidential Business Information (CBI) or other information whose disclosure is restricted by statute. Certain other material, such as copyrighted material, is not placed on the Internet and will be publicly available only in hard copy form. Publicly available docket materials are available in the electronic docket at http://www.regulations.gov or, if only available in hard copy, at the OPP Regulatory Public Docket in Rm. S-4400, One Potomac Yard (South Building), 2777 S. Crystal Drive, Arlington, VA. The Docket Facility is open from 8:30 a.m. to 4 p.m., Monday through Friday, excluding legal holidays. The Docket Facility telephone number is (703) 305-5805.

FOR FURTHER INFORMATION CONTACT: Jane Smith, Special Review and Reregistration Division (7508P), Office of Pesticide Programs, Environmental Protection Agency, 1200 Pennsylvania Ave., NW., Washington, DC 20460-0001; telephone number: (703) 308-0048; e-mail address:smith.jane-scott@epa.gov.

SUPPLEMENTARY INFORMATION:

I. General Information

A. Does this Action Apply to Me?

You may be potentially affected by this action if you are an agricultural producer, food manufacturer, or pesticide manufacturer. Potentially affected entities may include, but are not limited to:

• Crop production (NAICS code 111), e.g., agricultural workers; greenhouse, nursery, and floriculture workers; farmers.

• Animal production (NAICS code 112), e.g., cattle ranchers and farmers, dairy cattle farmers, livestock farmers.

• Food manufacturing (NAICS code 311), e.g., agricultural workers; farmers; greenhouse, nursery, and floriculture workers; ranchers; pesticide applicators.

• Pesticide manufacturing (NAICS code 32532), e.g., agricultural workers; commercial applicators; farmers; greenhouse, nursery, and floriculture workers; residential users.

This listing is not intended to be exhaustive, but rather provides a guide for readers regarding entities likely to be affected by this action. Other types of entities not listed in this unit could also be affected. The North American Industrial Classification System (NAICS) codes have been provided to assist you and others in determining whether this action might apply to certain entities. To determine whether you or your business may be affected by this action, you should carefully examine the applicability provisions in Unit II.A. If you have any questions regarding the applicability of this action to a particular entity, consult the person listed under FOR FURTHER INFORMATION CONTACT.

B. How Can I Access Electronic Copies of this Document?

In addition to accessing an electronic copy of this Federal Register document through the electronic docket at http://www.regulations.gov, you may access this Federal Register document electronically through the EPA Internet under the Federal Register listings at http://www.epa.gov/fedrgstr. You may also access a frequently updated electronic version of 40 CFR part 180 through the Government Printing Office's pilot e-CFR site at http://www.gpoaccess.gov/ecfr.

C. Can I File an Objection or Hearing Request?

Under section 408(g) of the FFDCA, as amended by the FQPA, any person may file an objection to any aspect of this regulation and may also request a hearing on those objections. The EPA procedural regulations which govern the submission of objections and requests for hearings appear in 40 CFR part 178. You must file your objection or request a hearing on this regulation in accordance with the instructions provided in 40 CFR part 178. To ensure proper receipt by EPA, you must identify docket ID number EPA-HQ-OPP-2007-0445 in the subject line on the first page of your submission. All requests must be in writing, and must be mailed or delivered to the Hearing Clerk on or before March 31, 2008.

In addition to filing an objection or hearing request with the Hearing Clerk as described in 40 CFR part 178, please submit a copy of the filing that does not contain any CBI for inclusion in the public docket that is described in ADDRESSES. Information not marked confidential pursuant to 40 CFR part 2 may be disclosed publicly by EPA without prior notice. Submit your copies, identified by docket ID number EPA-HQ-OPP-2007-0445, by one of the following methods.

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Building), 2777 S. Crystal Drive, Arlington, VA. Deliveries are only accepted during the Docket's normal hours of operation (8:30 a.m. to 4 p.m., Monday through Friday, excluding legal holidays). Special arrangements should be made for deliveries of boxed information. The Docket telephone number is (703) 305-5805.

II. Background

A. What Action is the Agency Taking?

In the Federal Register of August 8, 2007 (72 FR 44439) (FRL-8138-8), EPA issued a proposal to revoke, modify, and establish specific tolerances for residues of the herbicides MCPA and triallate; and the insecticides acephate, fenbutatin-oxide (hexakis), and pyrethrins. Also, the proposal of August 8, 2007 provided a 60-day comment period which invited public comment for consideration and for support of tolerance retention under FFDCA standards.

In this final rule, EPA is revoking, modifying, and establishing specific tolerances for residues of acephate, fenbutatin-oxide (hexakis), MCPA, pyrethrins, and triallate in or on commodities listed in the regulatory text of the proposal published August 8, 2007.

EPA is finalizing these tolerance actions in order to implement the tolerance recommendations made during the reregistration and tolerance reassessment processes (including follow-up on canceled or additional uses of pesticides). As part of these processes, EPA is required to determine whether each of the amended tolerances meets the safety standard of the Food Quality Protection Act (FQPA). The safety finding determination of “reasonable certainty of no harm” is discussed in detail in each Reregistration Eligibility Decision (RED) and Report of the Food Quality Protection Act (FQPA) Tolerance Reassessment Progress and Risk Management Decision (TRED) for the active ingredient. REDs and TREDs recommend certain tolerance actions to be implemented to reflect current use patterns, to meet safety findings, and change commodity names and groupings in accordance with new EPA policy. Printed copies of many REDs and TREDs may be obtained from EPA's National Service Center for Environmental Publications (EPA/NSCEP), P.O. Box 42419, Cincinnati, OH 45242-2419; telephone: 1 (800) 490-9198; fax: 1 (513) 489-8695; internet at http://www.epa.gov/ncepihom/ and from the National Technical Information Service (NTIS), 5285 Port Royal Road, Springfield, VA 22161; telephone: 1 (800) 553-6847 or (703) 605-6000; internet at: http://www.ntis.gov/. Electronic copies of REDs and TREDs are available on the Internet and in the public dockets EPA-HQ-OPP-2007-0445 and EPA-HQ-OPP-2004-0154 (fenbutatin-oxide/hexakis), EPA-HQ-OPP-2004-0156 (MCPA), EPA-HQ-OPP-2005-0043 (pyrethrins), and EPA-HQ-OPP-2006-0586 (triallate) at http://www.regulations.gov and http:// www.epa.gov/pesticides/reregistration/status.htm.

In this final rule, EPA is revoking certain tolerances and tolerance exemptions because these specific tolerances and exemptions correspond to uses no longer current or registered under FIFRA in the United States. The tolerances revoked by this final rule are no longer necessary to cover residues of the relevant pesticides in or on domestically treated commodities or commodities treated outside but imported into the United States. It is EPA's general practice to revoke those tolerances and tolerance exemptions for residues of pesticide active ingredients on crop uses for which there are no active registrations under FIFRA, unless any person in comments on the proposal indicates a need for the tolerance or tolerance exemption to cover residues in or on imported commodities or legally treated domestic commodities.

EPA has historically been concerned that retention of tolerances that are not necessary to cover residues in or on legally treated foods may encourage misuse of pesticides within the United States.

Generally, EPA will proceed with the revocation of these tolerances on the grounds discussed in Unit II.A. if one of the following conditions applies:

1. Prior to EPA's issuance of a section 408(f) order requesting additional data or issuance of a section 408(d) or (e) order revoking the tolerances on other grounds, commenters retract the comment identifying a need for the tolerance to be retained.

2. EPA independently verifies that the tolerance is no longer needed.

3. The tolerance is not supported by data that demonstrate that the tolerance meets the requirements under FQPA.

This final rule does not revoke those tolerances for which EPA received comments stating a need for the tolerance to be retained. In response to the proposal published in the Federal Register of August 8, 2007 (72 FR 44439), EPA received comments during the 60-day public comment period, as follows:

General. Comment by Pat Duggan, Editor of the Pesticide Chemical News Guide. The commenter questions why the Agency is retaining the postharvest designation on many of the pyrethrin tolerances when in a previous notice for the chemical thiophanate-methyl it was stated that “the Agency has determined that the timings of treatment should not be included as part of these tolerances because the enforcement agency analyzing samples would not know whether a commodity bore residues resulting from a seed treatment.”

Agency Response. Currently, residues of pyrethrin are regulated in two sections of the 40 CFR part 180. Residues of pyrethrins resulting from preharvest applications are regulated under the exemption in 40 CFR 180.905(a)(6). Residues of pyrethrins resulting from postharvest applications are regulated by tolerances in 40 CFR 180.128. Since there is an exemption in place for pyrethrins, there are deficiencies in the residue data used to support some tolerances. As part of the reregistration decision, the residue studies that were not previously conducted on crop groups and other commodities are being required and/or are underway. Although there are some residue data deficiencies, EPA was able to make a safety finding using conservative assumptions in the risk assessment, which indicated no dietary risks, and to consider the tolerances reassessed. Therefore, the Agency is retaining the postharvest terminology on an interim basis until these data for preharvest uses are received from the registrants and to prevent confusion in the 40 CFR part 180 between § 180.905(a)(6) and § 180.128 (unlike thiophanate-methyl which appears in only one section of the CFR.) Once the preharvest data are evaluated, and the Agency confirms that the tolerances in § 180.128 are reflective of the pre- and postharvest residue levels, the Agency intends to remove the postharvest designation to be consistent with current Agency practice.

The Agency did not receive comments on the following chemicals: acephate, fenbutatin-oxide (hexakis), MCPA, and triallate. Therefore, the Agency is finalizing, with the exception of the chlorpyrifos and metolachlor tolerances, the amendments proposed in the Federal Register of August 8, 2007 (72 FR 44439) (FRL-8138-8). The Agency received comments on chlorpyrifos and metolachlor which require additional time to address. The Agency will publish the response to comment and final tolerance rule for chlorpyrifos and metolachlor in the future. For a detailed discussion of the Agency's rationale for the establishments, revocations, and modifications to the tolerances, refer to the August 8, 2007 proposed rule.

B. What is the Agency's Authority for Taking this Action?

EPA may issue a regulation establishing, modifying, or revoking a tolerance under FFDCA section 408(e). In this final rule, EPA is establishing, modifying, and revoking tolerances to implement the tolerance recommendations made during the reregistration and tolerance reassessment processes, and as follow-up on canceled uses of pesticides. As part of these processes, EPA is required to determine whether each of the amended tolerances meets the safety standards under FQPA. The safety finding determination is found in detail in each RED and TRED for the active ingredient. REDs and TREDs recommend the implementation of certain tolerance actions, including modifications to reflect current use patterns, to meet safety findings, and change commodity names and groupings in accordance with new EPA policy. Printed and electronic copies of the REDs and TREDs are available as provided in Unit II.A.

EPA has issued post-FQPA REDs for pyrethrins, MCPA, triallate, and TREDs for acephate and fenbutatin-oxide whose REDs were completed prior to FQPA. REDs and TREDs contain the Agency's evaluation of the data base for these pesticides, including statements regarding additional data on the active ingredients that may be needed to confirm the potential human health and environmental risk assessments associated with current product uses, and REDs state conditions under which these uses and products will be eligible for reregistration. The REDs and TREDs recommended the establishment, modification, and/or revocation of specific tolerances. RED and TRED recommendations such as establishing or modifying tolerances, and in some cases revoking tolerances, are the result of assessment under the FQPA standard of “reasonable certainty of no harm.” However, tolerance revocations recommended in REDs and TREDs, that are made final in this document, do not need such assessment when the tolerances are no longer necessary.

EPA's general practice is to propose revocation of tolerances for residues of pesticide active ingredients on crops for which FIFRA registrations no longer exist and on which the pesticide may therefore no longer be used in the United States. Nonetheless, EPA will establish and maintain tolerances even when corresponding domestic uses are canceled if the tolerances, which EPA refers to as “import tolerances,” are necessary to allow importation into the United States of food containing such pesticide residues. However, where there are no imported commodities that require these import tolerances, the Agency believes it is appropriate to revoke tolerances for unregistered pesticides in order to prevent potential misuse.

When EPA establishes tolerances for pesticide residues in or on raw agricultural commodities, the Agency gives consideration to possible pesticide residues in meat, milk, poultry, and/or eggs produced by animals that are fed agricultural products (for example, grain or hay) containing pesticides residues (40 CFR 180.6). If there is no reasonable expectation of finite pesticide residues in or on meat, milk, poultry, or eggs, then tolerances do not need to be established for these commodities (40 CFR 180.6(b) and 180.6(c)).

C. When Do These Actions Become Effective?

These actions become effective on the date of publication of this final rule in the Federal Register. The tolerances revoked in this rule are associated with uses that have been canceled for several years. The Agency believes that treated commodities have had sufficient time for passage through the channels of trade.

Any commodities listed in the regulatory text of this document that are treated with the pesticides subject to this final rule, and that are in the channels of trade following the tolerance revocations, shall be subject to FFDCA section 408(1)(5), as established by FQPA. Under this section, any residues of these pesticides in or on such food shall not render the food adulterated so long as it is shown to the satisfaction of the Food and Drug Administration that:

1. The residue is present as the result of an application or use of the pesticide at a time and in a manner that was lawful under FIFRA.

2. The residue does not exceed the level that was authorized at the time of the application or use to be present on the food under a tolerance or exemption from a tolerance. Evidence to show that food was lawfully treated may include records that verify the dates that the pesticide was applied to such food.

III. Are the Actions Consistent with International Obligations?

The tolerance revocations in this final rule are not discriminatory and are designed to ensure that both domestically produced and imported foods meet the food safety standard established by FFDCA. The same food safety standards apply to domestically produced and imported foods.

In making its tolerance decisions, EPA seeks to harmonize U.S. tolerances with international standards whenever possible, consistent with U.S. food safety standards and agricultural practices. EPA considers the international maximum residue levels (MRLs) established by the Codex Alimentarius Commission, as required by section 408(b)(4) of the FFDCA. The Codex Alimentarius is a joint U.N. Food and Agriculture Organization/World Health Organization food standards program, and it is recognized as an international food safety standards-setting organization in trade agreements to which the United States is a party. EPA may establish a tolerance that is different from a Codex MRL; however, FFDCA section 408(b)(4) requires that EPA explain the reasons for departing from the Codex level in a notice published for public comment. EPA's effort to harmonize with Codex MRLs is summarized in the tolerance reassessment section of individual REDs and TREDs, and in the Residue Chemistry document which supports the RED and TRED, as mentioned in Unit II.A. Specific tolerance actions in this final rule and how they compare to Codex MRLs (if any) are discussed in Unit II.A.

IV. Statutory and Executive Order Reviews

In this final rule, EPA is establishing tolerances under FFDCA section 408(e), and modifying and revoking specific tolerances established under FFDCA section 408. The Office of Management and Budget (OMB) has exempted these types of actions (e.g., establishment and modification of a tolerance and tolerance revocation for which extraordinary circumstances do not exist) from review under Executive Order 12866, entitledRegulatory Planning and Review (58 FR 51735, October 4, 1993). Because this final rule has been exempted from review under Executive Order 12866 due to its lack of significance, this final rule is not subject to Executive Order 13211, Actions Concerning Regulations That Significantly Affect Energy Supply, Distribution, or Use (66 FR 28355, May 22, 2001). This final rule does not contain any information collections subject to OMB approval under the Paperwork Reduction Act (PRA), 44 U.S.C. 3501 et seq., or impose any enforceable duty or contain any unfunded mandate as described under Title II of the Unfunded Mandates Reform Act of 1995 (UMRA) (Public Law 104-4). Nor does it require any special considerations as required by Executive Order 12898, entitled Federal Actions to Address Environmental Justice in Minority Populations and Low-Income Populations (59 FR 7629, February 16, 1994); or OMB review or any other Agency action under Executive Order 13045, entitled Protection of Children from Environmental Health Risks and Safety Risks (62 FR 19885, April 23, 1997). This action does not involve any technical standards that would require Agency consideration of voluntary consensus standards pursuant to section 12(d) of the National Technology Transfer and Advancement Act of 1995 (NTTAA), Public Law 104-113, section 12(d) (15 U.S.C. 272 note). Pursuant to the Regulatory Flexibility Act (RFA) (5 U.S.C. 601 et seq.), the Agency previously assessed whether establishment of tolerances, exemptions from tolerances, raising of tolerance levels, expansion of exemptions, or revocations might significantly impact a substantial number of small entities and concluded that, as a general matter, these actions do not impose a significant economic impact on a substantial number of small entities. These analyses for tolerance establishments and modifications, and for tolerance revocations were published on May 4, 1981 (46 FR 24950) and on December 17, 1997 (62 FR 66020), respectively, and were provided to the Chief Counsel for Advocacy of the Small Business Administration. Taking into account this analysis, and available information concerning the pesticides listed in this final rule, the Agency hereby certifies that this action will not have a significant negative economic impact on a substantial number of small entities. In a memorandum dated May 25, 2001, EPA determined that eight conditions must all be satisfied in order for an import tolerance or tolerance exemption revocation to adversely affect a significant number of small entity importers, and that there is a negligible joint probability of all eight conditions holding simultaneously with respect to any particular revocation. (This Agency document is available in the docket of this final rule). Furthermore, for the pesticides named in this final rule, the Agency knows of no extraordinary circumstances that exist as to the present proposal that would change EPA's previous analysis. Any comments about the Agency's determination should be submitted to EPA along with comments on the proposal, and will be addressed prior to issuing a final rule. In addition, the Agency has determined that this action will not have a substantial direct effect on States, on the relationship between the national government and the States, or on the distribution of power and responsibilities among the various levels of government, as specified in Executive Order 13132, entitledFederalism (64 FR 43255, August 10, 1999). Executive Order 13132 requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.” This final rule directly regulates growers, food processors, food handlers and food retailers, not States. This action does not alter the relationships or distribution of power and responsibilities established by Congress in the preemption provisions of section 408(n)(4) of the FFDCA. For these same reasons, the Agency has determined that this final rule does not have any “tribal implications” as described in Executive Order 13175, entitled Consultation and Coordination with Indian Tribal Governments (65 FR 67249, November 6, 2000). Executive Order 13175, requires EPA to develop an accountable process to ensure “meaningful and timely input by tribal officials in the development of regulatory policies that have tribal implications.” “Policies that have tribal implications” is defined in the Executive Order to include regulations that have “substantial direct effects on one or more Indian tribes, on the relationship between the Federal Government and the Indian tribes, or on the distribution of power and responsibilities between the Federal Government and Indian tribes.” This final rule will not have substantial direct effects on tribal governments, on the relationship between the Federal Government and Indian tribes, or on the distribution of power and responsibilities between the Federal Government and Indian tribes, as specified in Executive Order 13175. Thus, Executive Order 13175 does not apply to this final rule.

List of Subjects in 40 CFR Part 180

Environmental protection, Administrative practice and procedure, Agricultural commodities, Pesticides and pests, Reporting and recordkeeping requirements.

Dated: January 17, 2008.
Debra Edwards,
Director, Office of Pesticide Programs.

Therefore, 40 CFR chapter I is amended as follows:

PART 180—[AMENDED]

1. The authority citation for part 180 continues to read as follows:

Authority: 21 U.S.C. 321(q), 346a and 371.

2. Section 180.108 is amended by revising paragraph (a)(1), paragragh (a)(2) introductory text, and (c) to read as follows:

§ 180.108 Acephate; tolerances for residues.

(a) General. (1) Tolerances are established for residues of acephate per se (O,S-dimethyl acetylphosphoramidothioate) in or on the following food commodities¹:

Commodity¹ | Parts per million
Bean, dry, seed | 3.0
Bean, succulent | 3.0
Brussels sprouts | 3.0
Cattle, fat | 0.1
Cattle, meat | 0.1
Cattle, meat byproducts | 0.1
Cauliflower | 2.0
Celery | 10
Cotton, hulls | 1.0
Cotton, meal | 1.0
Cotton, undelinted seed | 0.5
Cranberry | 0.5
Egg | 0.1
Goat, fat | 0.1
Goat, meat | 0.1
Goat, meat byproducts | 0.1
Hog, fat | 0.1
Hog, meat | 0.1
Hog, meat byproducts | 0.1
Horse, fat | 0.1
Horse, meat | 0.1
Horse, meat byproducts | 0.1
Lettuce, head | 10
Milk | 0.1
Peanut | 0.2
Pepper | 4.0
Peppermint, tops | 27
Poultry, fat | 0.1
Poultry, meat | 0.1
Poultry, meat byproducts | 0.1
Sheep, fat | 0.1
Sheep, meat | 0.1
Sheep, meat byproducts | 0.1
Spearmint, tops | 27
Soybean, seed | 1.0
¹Residues of the acephate metabolite, methamidophos, are regulated under 40 CFR 180.315

(2) A food tolerance of 0.02 ppm is established for residues of acephate per se (O,S-dimethyl acetylphosphoramidothioate) as follows:

(c) Tolerances with regional registration. Tolerances with regional registration, as defined in § 180.1(m), are established for residues of acephate per se (O,S-dimethyl acetylphosphoramidothioate) in or on the following food commodities:

Commodity | Parts per million
Nut, macadamia | 0.05

3. Section 180.128 is amended by revising paragraph (a) to read as follows:

§ 180.128 Pyrethrins; tolerances for residues.

(a) General. (1) Tolerances for residues of the insecticide pyrethrins ((1S)-2-methyl-4-oxo-3-(2Z)-2,4-pentadienylcyclopenten-1-yl (1R,3R)-2,2-dimethyl-3-(2-methyl-1-propenyl)cyclopropanecarboxylate (pyrethrin 1), (1S)-2-methyl-4-oxo-3-(2Z)-2,4-pentadienyl-2-cyclopenten-1-yl (1R,3R)-3-[(1E)-3-methoxy-2-methyl-3-oxo-1-propenyl]-2,2-dimethylcyclopropane-carboxylate (pyrethrin 2), (1S)-3-(2Z)-2-butenyl-2-methyl-4-oxo-2-cyclopenten-1-yl (1R,3R)-2,2-dimethyl-3-(2-methyl-1-propenyl)cyclopropanecarboxylate (cinerin 1), (1S)-3-(2Z)-2-butenyl-2-methyl-4-oxo-2-cyclopenten-1-yl (1R,3R)-3-[(1E)-3-methoxy-2-methyl-3-oxo-1-propenyl]-2,2-dimethylcyclopropanecarboxylate (cinerin 2), (1S)-2-methyl-4-oxo-3-(2Z)-2-pentenyl-2-cyclopenten-1-yl (1R, 3R)-2,2-dimethyl-3-(2-methyl-1-propenyl)cyclopropanecarboxylate (jasmolin 1), and (1S)-2-methyl-4-oxo-3-(2Z)-pentenyl-2-cyclopenten-1-yl (1R,3R)-3-[(1E)-3-methoxy-2-methyl-3-oxo-1-propenyl]-2,2-dimethylcyclopropanecarboxylate (jasmolin 2)), the insecticidally active principles of Chrysanthemum cinerariaefolium, which are measured as cumulative residues of pyrethrin 1, cinerin 1, and jasmolin 1 are not to exceed the following:

Commodity | Parts per million
Almond, postharvest | 1.0
Apple, postharvest | 1.0
Barley, grain, postharvest | 3.0
Bean, succulent, postharvest | 1.0
Birdseed, mixtures, postharvest | 3.0
Blackberry, postharvest | 1.0
Blueberry, postharvest | 1.0
Boysenberry, postharvest | 1.0
Buckwheat, grain, postharvest | 3.0
Cacao bean, roasted bean, postharvest | 1.0
Cattle, fat | 1.0
Cattle, meat | 0.05
Cattle, meat byproducts | 0.05
Cherry, sweet, postharvest | 1.0
Cherry, tart, postharvest | 1.0
Coconut, copra, postharvest | 1.0
Corn, field, grain, postharvest | 3.0
Corn, pop, grain, postharvest | 3.0
Cotton, undelinted seed, postharvest | 1.0
Crabapple, postharvest | 1.0
Currant, postharvest | 1.0
Dewberry, postharvest | 1.0
Fig, postharvest | 1.0
Flax, seed, postharvest | 1.0
Goat, fat | 1.0
Goat, meat | 0.05
Goat, meat byproducts | 0.05
Gooseberry, postharvest | 1.0
Grape, postharvest | 1.0
Guava, postharvest | 1.0
Hog, fat | 1.0
Hog, meat | 0.05
Hog, meat byproducts | 0.05
Horse, fat | 1.0
Horse, meat | 0.05
Horse, meat byproducts | 0.05
Loganberry, postharvest | 1.0
Mango, postharvest | 1.0
Milk, fat (reflecting negligible residues in milk) | 0.05
Muskmelon, postharvest | 1.0
Oat, grain, postharvest | 1.0
Orange, postharvest | 1.0
Pea, dry, seed, postharvest | 1.0
Peach, postharvest | 1.0
Peanut, postharvest | 1.0
Pear, postharvest | 1.0
Pineapple, postharvest | 1.0
Plum, prune, fresh, postharvest | 1.0
Potato, postharvest | 0.05
Raspberry, postharvest | 1.0
Rice, grain, postharvest | 3.0
Rye, grain, postharvest | 3.0
Sheep, fat | 1.0
Sheep, meat | 0.05
Sheep, meat byproducts | 0.05
Sorghum, grain, grain, postharvest | 1.0
Sweet potato, postharvest | 0.05
Tomato, postharvest | 1.0
Walnut, postharvest | 1.0
Wheat, grain, postharvest | 3.0

(2) A tolerance of 1.0 ppm is established for residues of the insecticide pyrethrins in or on milled fractions derived from grain, cereal when present as a result of its use in cereal grain mills and in storage areas for milled cereal grain products.

(3) A tolerance of 1.0 ppm is established for residues of the insecticide pyrethrins in or on all food items in food handling establishments where food and food products are held, processed, prepared and/or served. Food must be removed or covered prior to use.

(4) Where tolerances are established on both the raw agricultural commodities and processed foods made there-from, the total residues of pyrethrins in or on the processed food shall not be greater than that permitted by the larger of the two tolerances.

4. Section 180.314 is amended by alphabetically adding the following commodity to the table in paragraph (c) to read as follows

§ 180.314 Triallate; tolerance for residues.

* * * * *

(c) Tolerances with regional registrations. * * *

Commodity | Parts per million
* * * * *
Wheat, forage | 0.05
* * * * *

* * * * *

5. Section 180.339 is amended by alphabetically adding the following commodity to the table in paragraph (a)(1) to read as follows.

§ 180.339 MCPA; tolerances for residues.

(a)(1) General. * * *

Commodity | Parts per million
* * * * *
Grain, aspirated fractions | 3.0
* * * * *

6. Section 180.362 is amended by alphabetically adding the following commodity to the table in paragraph (a)(1) to read as follows.

§ 180.362 Hexakis (2-methyl-2-phenylpropyl)distannoxane; tolerances for residues.

(a) * * *

(1) * * *

Commodity | Parts per million
* * * * *
Pistachio | 0.5
* * * * *

* * * * *

[FR Doc. E8-1535 Filed 1-28-08; 8:45 am]

BILLING CODE 6560-50-S